FEDERAL COMMUNICATIONS COMMISSION

47 CFR Part 73

[MB Docket No. 04-319; RM-10984; DA 11-1072]

Radio Broadcasting Services; Clinchco, VA, and Coal Run, KY

AGENCY: Federal Communications Commission.

ACTION: Final rule; petition for reconsideration, granted.

SUMMARY: The staff reinstates and grants a rulemaking petition filed by East Kentucky Broadcasting Corporation (“East Kentucky”), upgrading its Station WPKE-FM, Coal Run Kentucky, from Channel 276A to Channel 221C3.

DATES: Effective August 1, 2011.

FOR FURTHER INFORMATION CONTACT: Andrew J. Rhodes, Media Bureau, (202) 418-2180.

SUPPLEMENTARY INFORMATION: This is a synopsis of the Commission's Memorandum Opinion and Order, MB Docket No. 04-319, adopted June 16, 2011, and released June 17, 2011. The full text of this Commission decision is available for inspection and copying during normal business hours in the FCC Reference Information Center (Room CY-A257), 445 12th Street, SW., Washington, DC 20554. The complete text of this decision may also be purchased from the Commission's duplicating contractor, Best Copy and Printing, Inc., Portals II, 445 12th Street, SW., Room CY-B402, Washington, DC 20554, telephone 1-800-378-3160 or http://www.BCPIWEB.com.

The Report and Order denied East Kentucky's rulemaking petition because it proposed an effective radiated power (“ERP”) below the minimum required for Class C3 FM stations under § 73.211 of the Commission's rules. See 72 FR 16315 (April 4, 2007). The staff reversed the Report and Order, explaining that a station may have a height above average terrain (“HAAT”) greater than the class reference provided that it reduces its ERP such that the distance to its 60 dBu contour exceeds the reference distance for the next lower class and does not exceed the reference distance for its class. Because East Kentucky's proposal met these requirements, the staff reinstated and granted the rulemaking petition. The document also rejected an argument that the proposal was not technically feasible due to a terrain obstruction.

To accommodate East Kentucky's upgrade, the staff involuntarily modified the license of Station WDIC-FM, Clinchco, Virginia, from Channel 221A to Channel 276A. The reference coordinates for Channel 221C3 at Coal Run, Kentucky, are 37-23-57 NL and 82-23-42 WL, and for Channel 276A at Clinchco, Virginia, are 37-08-42 NL and 82-23-22 WL.

East Kentucky's proposal was formerly a rule change to § 73.202(b), the FM Table of Allotments. See 69 FR 51414 (August 19, 2004). As a result of changes to the Commission's processing rules, modifications of FM channels for existing stations are no longer listed in § 73.202(b) and are instead reflected in the Media Bureau's Consolidated Data Base System. See Revision of Procedures Governing Amendments to FM Table of Allotments and Changes of Community of License in the Radio Broadcast Services, Report and Order, 71 FR 76208 (December 20, 2006).

This document is not subject to the Congressional Review Act. (The Commission is, therefore, not required to submit a copy of this Report and Order to GAO, pursuant to the Congressional Review Act, see 5 U.S.C. 801(a)(1)(A) because no changes are being made to 47 CFR 73.202(b)).

List of Subjects in 47 CFR Part 73

Radio, Radio broadcasting.

Federal Communications Commission.
Nazifa Sawez,
Assistant Chief, Audio Division, Media Bureau.

[FR Doc. 2011-18636 Filed 7-22-11; 8:45 am]

BILLING CODE 6712-01-P